DEPARTMENT OF COMMERCE

National Oceanic and Atmospheric Administration

RIN XC06

U.S. Climate Change Science Program Synthesis and Assessment Product Draft Report 4.4: “Preliminary Review of Adaptation Options for Climate-Sensitive Ecosystems and Resources”

AGENCY: National Oceanic and Atmospheric Administration (NOAA),Department of Commerce.

ACTION: Notice of availability and request for public comments.

SUMMARY: The National Oceanic and Atmospheric Administration publishes this notice to announce the availability for public comments for the draft document titled, U.S. Climate Change Science Program Synthesis and Assessment Product 4.4: “Preliminary Review of Adaptation Options for Climate-Sensitive Ecosystems and Resources.” This Synthesis and Assessment Product (SAP) analyzes information on the state of knowledge of adaptation options for key, representative ecosystems and resources that may be sensitive to climate variability and change.

This draft document is being released solely for the purpose of pre-dissemination peer review under applicable information quality guidelines. This document has not been formally disseminated by NOAA. It does not represent and should not be construed to represent any Agency policy or determination. Any public comments submitted in accordance with this notice will be considered when revising the document.

DATES: Comments must be received by October 5, 2007.

ADDRESSES: The draft of Synthesis and Assessment Product 4.4: “Preliminary Review of Adaptation Options for Climate-Sensitive Ecosystems and Resources” is posted on the CCSP Web site at: www.climatescience.gov/Library/sap/sap4-4/default.php

Detailed instructions for making comments on the draft Report is provided on the SAP 4.4 webpage (see link here). Comments should be prepared and submitted in accordance with these instructions.

FOR FURTHER INFORMATION CONTACT: Dr. Fabien Laurier, Climate Change Science Program Office, 1717 Pennsylvania Avenue NW, Suite 250, Washington, DC 20006, Telephone: (202) 419 3481.

SUPPLEMENTARY INFORMATION: The Climate Change Science Program (CCSP) was established by the President in 2002 to coordinate and integrate scientific research on global change and climate change sponsored by 13 participating departments and agencies of the U.S. Government. The CCSP is charged with preparing information resources that promote climate-related discussions and decisions, including scientific synthesis and assessment analyses that support evaluation of important policy issues. This report has been prepared by a team of experts from academia, governmental and nongovernmental organizations, and the private sector in response to the mandate of the U.S. Climate Change Science Program's Strategic Plan (2003). SAP 4.4 reviews the state of knowledge of adaptation options for key, representative ecosystems and resources that may be sensitive to climate variability and change. It is designed to serve resource managers and decision makers interested in using science to inform adaptation to the impacts of climate variability and change. The report examines (1) the combined effects on ecosystems of climate changes and non-climate stressors, and consequent implications for achieving specific management goals; (2) adaptation approaches that reduce the risk of negative impacts on management goals; and (3) ways to overcome barriers or take advantage of opportunities to improve the likelihood of successful adaptation implementation.

Dated: August 14, 2007.
William J. Brennan,
Deputy Assistant Secretary of Commerce for International Affairs, and Acting Director, Climate Change Science Program.

[FR Doc. E7-16356 Filed 8-20-07; 8:45 am]

BILLING CODE 3510-12-S